SMALL BUSINESS ADMINISTRATION

[Disaster Declaration # 10787]

Missouri Disaster Number MO-00008

AGENCY: U.S. Small Business Administration.

ACTION: Amendment 2.

SUMMARY: This is an amendment of the Presidential declaration of a major disaster for Public Assistance Only for the State of Missouri (FEMA-1676-DR), dated January 15, 2007.

Incident: Severe Winter Storms and Flooding.

Incident Period: January 12, 2007 through January 22, 2007.

Effective Date: February 9, 2007.

Physical Loan Application Deadline Date: March 16, 2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Missouri, dated 01/15/2007, is hereby amended to include the following areas as adversely affected by the disaster.

Primary Counties:

Benton, Boone, Cedar, Texas.

All other information in the original declaration remains unchanged.

(Catalog of Federal Domestic Assistance Number 59008).

Roger B. Garland,
Acting Associate Administrator for Disaster Assistance.

[FR Doc. E7-3087 Filed 2-22-07; 8:45 am]

BILLING CODE 8025-01-P